NUCLEAR REGULATORY COMMISSION

[NRC-2014-0198]

Revisions to Radioactive Waste Management Guidance for NRC Staff

AGENCY: Nuclear Regulatory Commission.

ACTION: Standard review plan-final section revision; issuance

SUMMARY: The U.S. Nuclear Regulatory Commission (NRC) is issuing a final revision to several sections in Chapter 11, “Radioactive Waste Management,” of NUREG-0800, “Standard Review Plan (SRP) for the Review of Safety Analysis Reports for Nuclear Power Plants: LWR Edition.” On September 17, 2014, the NRC published for public comment the proposed revisions to Chapter 11 of the SRP. The NRC made changes to the proposed revisions after the consideration of comments received. Among other changes, the revisions include (1) revision of the title of SRP Section 11.1 to “Coolant Source Terms,” (2) implementation of Interim Staff Guidance (ISG), COL/DC-ISG-013, and (3) the revision also harmonizes SRP Section 11.2 with Branch Technical Position (BTP) 11.6 regarding the guidance of COL/DC-ISG-013 for calculating doses to members of the public and identifying acceptable criteria in assessing the radiological consequences of accidental releases due to tank failures.

DATES: The effective date of this Standard Review Plan update is March 10, 2016.

ADDRESSES: Please refer to Docket ID NRC-2014-0198 when contacting the NRC about the availability of information regarding this document. You may obtain publicly-available information related to this document using any of the following methods:

• Federal Rulemaking Web site: Go to http://www.regulations.gov and search for Docket ID NRC-2014-0198. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Mark Notich, telephone: 301-415-3053; email: Mark.Notich@nrc.gov; or Nishka Devaser, telephone: 301-415-5196; email: Nishka.Devaser@nrc.gov; both are staff of the Office of New Reactors, U.S. Nuclear Regulatory Commission, Washington, DC 20555-0001.

SUPPLEMENTARY INFORMATION:

I. Background

A summary of the comments and the NRC staff's disposition of the comments are available in a separate document, “Response to Public Comments on Draft SRP Sections in Chapter 11” (ADAMS Accession No. ML15033A417).

The Office of New Reactors and the Office of Nuclear Reactor Regulation are revising these sections from their current revisions. Details of specific changes in the proposed revisions are included at the end of each of the proposed sections.

The changes to this SRP chapter reflect current NRC staff's review methods and practices based on lessons learned from the NRC's reviews of design certification and combined license applications completed since the last revision of this chapter.

II. Backfitting and Finality Provisions

Issuance of these revised SRP sections does not constitute backfitting as defined in § 50.109 of title 10 of the Code of Federal Regulations (10 CFR), “Backfitting,” (the Backfit Rule) or otherwise be inconsistent with the issue finality provisions in 10 CFR part 52. The NRC's position is based upon the following considerations.

1. The SRP positions do not constitute backfitting, inasmuch as the SRP is internal guidance directed at the NRC staff with respect to their regulatory responsibilities.

The SRP provides guidance to the staff on how to review an application for the NRC's regulatory approval in the form of licensing. Changes in internal staff guidance are not matters for which either nuclear power plant applicants or licensees are protected under either the Backfit Rule or the issue finality provisions of 10 CFR part 52.

2. The NRC staff has no intention to impose the SRP positions on current licensees and regulatory approvals either now or in the future.

The staff does not intend to impose or apply the positions described in the SRP to existing (already issued) licenses and regulatory approvals. Therefore, the issuance of a final SRP—even if considered guidance that is within the purview of the issue finality provisions in 10 CFR part 52—need not be evaluated as if it were a backfit or as being inconsistent with issue finality provisions. If, in the future, the staff seeks to impose a position in the SRP on holders of already issued licenses in a manner which does not provide issue finality as described in the applicable issue finality provision, then the staff must make the showing as set forth in the Backfit Rule or address the criteria for avoiding issue finality as described in the applicable issue finality provision.

3. Backfitting and issue finality do not—with limited exceptions not applicable here—protect current or future applicants.

Applicants and potential applicants are not, with certain exceptions, protected by either the Backfit Rule or any issue finality provisions under 10 CFR part 52. This is because neither the Backfit Rule nor the issue finality provisions under 10 CFR part 52—with certain exclusions discussed in the next paragraph—were intended to apply to every NRC action which substantially changes the expectations of current and future applicants.

The exceptions to the general principle are applicable whenever an applicant references a 10 CFR part 52 license (e.g., an early site permit) and/or NRC regulatory approval (e.g., a design certification rule) with specified issue finality provisions. The staff does not, at this time, intend to impose the positions represented in the SRP in a manner that is inconsistent with any issue finality provisions. If, in the future, the staff seeks to impose a position in the SRP in a manner which does not provide issue finality as described in the applicable issue finality provision, then the staff must address the criteria for avoiding issue finality as described in the applicable issue finality provision.

III. Congressional Review Act

In accordance with the Congressional Review Act, the NRC has determined that this action is not a major rule and has verified this determination with the Office of Information and Regulatory Affairs of the Office of Management and Budget.

IV. Availability of Documents

The documents identified in the following table are available to interested persons through one or more of the following methods, as indicated.

Document | ADAMS accession No.
Section 11.1, “Coolant Source Terms,” Revision 4 | ML15029A022
Section 11.2, “Liquid Waste Management System,” Revision 5 | ML15029A032
Section 11.3, “Gaseous Waste Management System,” Revision 4 | ML15029A039
Section 11.4, “Solid Waste Management System,” Revision 4 | ML15029A174
Section 11.5, “Process and Effluent Radiological Monitoring Instrumentation and Sampling Systems,” Revision 6 | ML15029A182
BTP 11-3, “Design Guidance for Solid Radioactive Waste Management Systems Installed in Light-Water-Cooled Nuclear Power Reactor Plants,” Revision 4* | ML15027A198
BTP 11-5, “Postulated Radioactive Releases Due to a Waste Gas System Leak or Failure,” Revision 4 * | ML15027A302
BTP 11-6, “Postulated Radioactive Releases due to Liquid Containing Tank Failures,” Revision 4 * | ML15027A401
* No changes resulting from public comments. See documents in the package at ADAMS Accession Number ML14113A532 to see changes made since last revision.

Dated at Rockville, Maryland, this 8th day of January, 2016.
For the Nuclear Regulatory Commission.
Kimyata Morgan Butler,
Chief, New Reactor Rulemaking and Guidance Branch, Division of Advanced Reactors and Rulemaking, Office of New Reactors.

[FR Doc. 2016-02588 Filed 2-8-16; 8:45 am]

BILLING CODE 3410-16-P